DEPARTMENT OF THE INTERIOR

Bureau of Land Management

[LLMT924000-L1430000-ET0000; SDM 104697]

Public Land Order No. 7831; Transfer of Administrative Jurisdiction, Wind Cave National Park Addition; South Dakota

AGENCY: Bureau of Land Management, Interior.

ACTION: Public land order.

SUMMARY: This order transfers administrative jurisdiction over 76.60 acres of public lands from the Bureau of Land Management to the National Park Service for administration as part of the Wind Cave National Park in Custer County, South Dakota.

DATES: Effective Date: March 26, 2015.

FOR FURTHER INFORMATION CONTACT: Doris Morrow, National Park Service, 601 Riverfront Drive, Omaha, Nebraska 68102-4226, 402-661-1784, doris_morrow@nps.gov, or Tamara Lorenz, Bureau of Land Management, 5001 Southgate Drive, Billings, Montana 59101-4669, 406-896-5053, tlorenz@mt.blm.gov. Persons who use a telecommunications device for the deaf (TDD) may call the Federal Information Relay Service (FIRS) at 1-800-877-8339 to reach the Bureau of Land Management or National Park Service contact. The FIRS is available 24 hours a day, 7 days a week, to leave a message or question with either of the above individuals. You will receive a reply during normal business hours.

SUPPLEMENTARY INFORMATION: Public Law 109-71, enacted September 21, 2005, revised the Wind Cave National Park boundary and directed the Secretary of the Interior to transfer administrative jurisdiction of the public lands described in this order to the National Park Service for administration as part of Wind Cave National Park.

Order

By virtue of the authority vested in the Secretary of the Interior and as directed by Public Law 109-71 (119 Stat. 2011) (2005), it is ordered as follows:

Administrative jurisdiction of the following described lands is hereby transferred from the Bureau of Land Management to the National Park Service:

Black Hills Meridian, South Dakota

T. 5 S., R. 6 E.,

Sec. 28, SW¼SW¼.

T. 6 S., R. 6 E.,

Sec. 30, lot 1.

The areas described aggregate 76.60 acres in Custer County.

Dated: March 7, 2014.
Janice M. Schneider,
Assistant Secretary—Land and Minerals Management.

[FR Doc. 2015-07000 Filed 3-25-15; 8:45 am]

BILLING CODE 4310-DN-P